DEPARTMENT OF THE TREASURY

Internal Revenue Service

26 CFR Part 51

[REG-112805-10]

RIN 1545-BJ39

Branded Prescription Drug Fee; Correction

AGENCY: Internal Revenue Service (IRS), Treasury.

ACTION: Correction to notice of proposed rulemaking by cross-reference to temporary regulations.

SUMMARY: This document contains a correction to a notice of proposed rulemaking that was published in the Federal Register on Thursday, August 18, 2011. The proposed regulation provides guidance relating to the branded prescription drug fee imposed by the Affordable Care Act.

FOR FURTHER INFORMATION CONTACT: Celia Gabrysh, (202) 622-3130 (not a toll free number).

SUPPLEMENTARY INFORMATION:

Need for Correction

As published August 18, 2011 (76 FR 51310), the notice of proposed rulemaking (REG-112805-10) contains errors that may prove to be misleading and are in need of clarification.

Correction of Publication

Accordingly, the notice of proposed rulemaking (REG-112805-10), that was the subject of FR Doc. 2011-21012, is corrected as follows:

1. On Page 51311, column 2, under the part heading PART 51—BRANDED PRESCRIPTION DRUGS, the last line of the first paragraph, the language “this issue of the Federal Register.]” is corrected to read “this issue of the Federal Register].”.

2. On page 51311, column 2, under the part heading PART 51—BRANDED PRESCRIPTION DRUGS, the first line of the last paragraph, the language “[The text of proposed § 51.6302-1 is” is corrected to read “[The text of proposed paragraphs (a) and (b) of § 51.6302-1 is”.

3. On page 51311, column 2, under the part heading PART 51—BRANDED PRESCRIPTION DRUGS, the last line of the last paragraph, the language “Register.]” is corrected to read “Register].”

4. On page 51311, column 2, in the signature block, the language “Sarah Hall Ingram, Deputy Commissioner for Services and Enforcement.” is corrected to read “Sarah Hall Ingram, Acting Deputy Commissioner for Services and Enforcement.”

LaNita VanDyke,
Chief, Publications and Regulations Branch, Legal Processing Division, Associate Chief Counsel, Procedure and Administration.

[FR Doc. 2011-24913 Filed 9-27-11; 8:45 am]

BILLING CODE 4830-01-P